NUCLEAR REGULATORY COMMISSION

[Docket Nos. 50-269, 50-270, and 50-287]

Duke Energy Corporation; Notice of Withdrawal of Application for Amendment to Facility Operating License

The U.S. Nuclear Regulatory Commission (the Commission) has granted the request of Duke Energy Corporation (the licensee) to withdraw its December 6, 2002, application for proposed amendments to Renewed Facility Operating License Nos. DPR-38, DPR-47, and DPR-55 for the Oconee Nuclear Station, Units 1, 2, and 3 located in Seneca, South Carolina.

The proposed amendments would have revised Technical Specification (TS) 3.7.16, “Control Room Area Cooling System (CRACS),” that currently requires entry into TS 3.0.3 when two trains of CRACS are inoperable. The proposed amendments would have eliminated the required entry into TS 3.0.3 and would have allowed 6 hours to restore the operability of one train.

The Commission had previously issued a notice of consideration of issuance of amendment published in the Federal Register on February 5, 2002 (67 FR 5326). However, by letter dated November 26, 2002, the licensee withdrew the proposed change.

For further details with respect to this action, see the application for amendment dated December 6, 2002, and the licensee's letter dated November 26, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated in Rockville, Maryland, this 2nd day of December 2002.
For the Nuclear Regulatory Commission.
Leonard N. Olshan,
Project Manager, Section 1, Project Directorate II, Division of Licensing Project Management, Office of Nuclear Reactor Regulation.

[FR Doc. 02-31002 Filed 12-6-02; 8:45 am]

BILLING CODE 7590-01-P